DEPARTMENT OF JUSTICE

[OMB Number 1103—NEW]

Agency Information Collection Activities; Proposed New Collection; Comments Requested: COPS/“Not In Our Town” Public Surveys

ACTION: 30-Day notice.

The Department of Justice (DOJ) Office of Community Oriented Policing Services (COPS) will be submitting the following information collection request to the Office of Management and Budget (OMB) for review and approval in accordance with the Paperwork Reduction Act of 1995. The proposed information collection was previously published in the Federal Register 78, Number 8, page 2439, on January 11, 2013, allowing for a 60-day comment period.

The purpose of this notice is to allow for an additional 30 days for public comment until April 15, 2013. This process is conducted in accordance with 5 CFR 1320.10.

If you have comments, especially on the estimated public burden or associated response time, suggestions, or need a copy of the proposed information collection instrument with instructions or additional information, please contact Danielle Ouellette, Department of Justice Office of Community Oriented Policing Services, 145 N Street NE., Washington, DC 20530.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Proposed new collection; comments requested.

(2) Title of the Form/Collection: COPS/“Not In Our Town” Public Surveys.

(3) Agency form number, if any, and the applicable component of the Department sponsoring the collection: None. U.S. Department of Justice Office of Community Oriented Policing Services.

(4) Affected public who will be asked or required to respond, as well as a brief abstract: Law enforcement agencies and other public and private entities that view the “Not In Our Town” documentaries, webinars, and other media from the COPS' grantee, The Working Group, will be asked to voluntarily complete certain response surveys. These brief surveys are designed to elicit audience opinions and responses regarding topics discussed in the different media such as: Hate crimes, community relations for diversity, school collaborations with law enforcement, and community collaborations with law enforcement. These are one-time surveys that will be utilized by The Working Group to further improve the “Not In Our Town” documentaries and media for future production and to engage the audiences of law enforcement and the community to what topics are important to them.

(5) An estimate of the total number of respondents and the amount of time estimated for an average respondent to respond/reply: It is estimated that, at maximum, 1,690 respondents annually will complete the form within .167 hours (10 minutes).

(6) An estimate of the total public burden (in hours) associated with the collection: There are an estimated 282 total annual burden hours associated with this collection.

If additional information is required contact: Jerri Murray, Department Clearance Officer, U.S. Department of Justice, Justice Management Division, Policy and Planning Staff, Two Constitution Square, 145 N Street NE., Room 3W-1407B, Washington, DC 20530.

Dated: March 12, 2013.
Jerri Murray,
Department Clearance Officer, PRA, U.S. Department of Justice.

[FR Doc. 2013-06008 Filed 3-14-13; 8:45 am]

BILLING CODE 4410-AT-P